DEPARTMENT OF COMMERCE

National Oceanic and Atmospheric Administration

Agency Information Collection Activities; Submission to the Office of Management and Budget (OMB) for Review and Approval; Comment Request; Reporting Requirements for the Ocean Salmon Fishery Off the Coasts of Washington, Oregon, and California

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 26, 2023 (88 FR 41388) during a 60-day comment period, no comments were received. This notice allows for an additional 30 days for public comments.

Agency: National Oceanic and Atmospheric Administration (NOAA), Commerce.

Title: Reporting Requirements for the Ocean Salmon Fishery Off the Coasts of Washington, Oregon, and California.

OMB Control Number: 0648-0433.

Form Number(s): None.

Type of Request: Regular submission (extension of a current information collection).

Number of Respondents: 40.

Average Hours per Response: 15 minutes.

Total Annual Burden Hours: 10 hours.

Needs and Uses: Ocean salmon fisheries conducted in the U.S. exclusive economic zone, 3-200 nautical miles off the West Coast states of Washington, Oregon, and California are managed by the Pacific Fishery Management Council (Council) and NOAA's NMFS under the Magnuson-Stevens Fishery Conservation and Management Act (MSA). Management measures for the ocean salmon fisheries are set annually, consistent with the Council's Pacific Coast Salmon Fishery Management Plan (FMP). The FMP provides a framework for managing the ocean salmon fisheries in a sustainable manner, as required under the MSA, through the use of conservation objectives, annual catch limits, and other reference points and status determination criteria described in the FMP. To meet these criteria, annual management measures, published in the Federal Register by NMFS, specify regulatory areas, catch restrictions, and landing restrictions based on the annual stock abundance forecasts. These catch and landing restrictions include area- time- and species-specific quotas for the commercial ocean salmon fishery, and generally require catch and landings to be reported to the appropriate state and tribal agencies to allow for timely and accurate accounting of the season's catch (50 CFR 660.404 and 50 CFR 660.408(o)). The best available catch and effort data and projections are presented by the state fishery managers in telephone conference calls involving the NMFS Regional Administrator and representatives of the Council. However, NMFS acknowledges that unsafe weather or mechanical problems could prevent commercial fishermen from making their landings at the times and places specified, and the MSA requires conservation and management measures to promote the safety of human life at sea.

The annual management measures will specify the contents and procedure of the notifications, and the entities receiving the notifications (e.g., U.S. Coast Guard). Absent this requirement by the Council, the state reporting systems would not regularly collect this specific type of in-season radio report. These provisions, and this federal collection of information, promote safety at sea and provide practical utility for sustainably managing the fishery, and ensure regulatory consistency across each state by implementing the same requirements in the territorial waters off each state. This information collection is intended to be general in scope by leaving the specifics of the contents and procedure of the notifications for annual determination, thus providing flexibility in responding to salmon management concerns in any given year.

Affected Public: Business or other for-profit organizations.

Frequency: Reporting under this emergency provision is infrequent.

Respondent's Obligation: Mandatory.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0433.

Sheleen Dumas,
Department PRA Clearance Officer, Office of the Under Secretary for Economic Affairs, Commerce Department.

[FR Doc. 2023-21280 Filed 9-27-23; 8:45 am]

BILLING CODE 3510-22-P